DEPARTMENT OF ENERGY

Federal Energy Regulatory Commission

Combined Notice of Filings

Take notice that the Commission has received the following Natural Gas Pipeline Rate and Refund Report filings:

Filings Instituting Proceedings

Docket Numbers: RP13-929-000.

Applicants: Hardy Storage Company LLC.

Description: Hardy Storage Company LLC Annual Penalty Revenue Crediting Report.

Filed Date: 5/29/13.

Accession Number: 20130529-5066.

Comments Due: 5 p.m. ET 6/10/13.

Docket Numbers: RP13-930-000.

Applicants: ANR Pipeline Company.

Description: Change to RP13-743-001 to be effective 5/1/2013.

Filed Date: 5/29/13.

Accession Number: 20130529-5081.

Comments Due: 5 p.m. ET 6/10/13.

Docket Numbers: RP13-931-000.

Applicants: Alliance Pipeline L.P.

Description: June 1—30 2013 Auction to be effective 6/1/2013.

Filed Date: 5/29/13.

Accession Number: 20130529-5144.

Comments Due: 5 p.m. ET 6/10/13.

Docket Numbers: RP13-932-000.

Applicants: Natural Gas Pipeline Company of America.

Description: Neg Rate Filing—Sequent Energy to be effective 6/1/2013.

Filed Date: 5/29/13.

Accession Number: 20130529-5148.

Comments Due: 5 p.m. ET 6/10/13.

Docket Numbers: RP13-933-000.

Applicants: Natural Gas Pipeline Company of America.

Description: Negotiated Rate Filing—Renaissance Trading to be effective 6/1/2013.

Filed Date: 5/29/13.

Accession Number: 20130529-5149.

Comments Due: 5 p.m. ET 6/10/13.

Docket Numbers: RP13-934-000.

Applicants: Natural Gas Pipeline Company of America.

Description: Tenaska LPS-RO to be effective 6/1/2013.

Filed Date: 5/29/13.

Accession Number: 20130529-5154.

Comments Due: 5 p.m. ET 6/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2013.
Nathaniel J. Davis, Sr.,
Deputy Secretary.

[FR Doc. 2013-13588 Filed 6-6-13; 8:45 am]

BILLING CODE 6717-01-P